DEPARTMENT OF THE INTERIOR

Bureau of Land Management

[18X.LLAZC03000.L1440000.EQ0000; AZA007567]

Notice of Realty Action: Classification of Lands for Recreation and Public Purposes Act Conveyance of Public Land in Mohave County, AZ

AGENCY: Bureau of Land Management, Interior.

ACTION: Notice of realty action.

SUMMARY: The Bureau of Land Management (BLM) has examined and found suitable for classification for conveyance to Lake Havasu City (LHC) under the provisions of the Recreation and Public Purposes (R&PP) Act, as amended, section 7 of the Taylor Grazing Act, and Executive Order 6910, approximately 1,042.11 acres of public land in Mohave County, Arizona. The land is subject to a lease to LHC under the R&PP Act, and is used for a city park also commonly known as Special Activities Recreation Area (SARA) Park. This action will classify the lands for conveyance so they can be patented and title given to LHC.

DATES: Interested parties may submit written comments regarding the proposed classification for lease and/or conveyance of public land on or before September 28, 2018. In the absence of any adverse comments, the classification will take effect on October 15, 2018.

ADDRESSES: Address comments to Jason West, Field Manager, BLM Lake Havasu Field Office, 1785 Kiowa Avenue, Lake Havasu City, AZ 86403. Detailed information concerning this action is available at this address.

FOR FURTHER INFORMATION CONTACT: Sheri Ahrens, Realty Specialist, at the above address; phone 928-505-1200; or by email at sahrens@blm.gov. Persons who use a telecommunications device for the deaf (TDD) may call the Federal Relay Service (FRS) at 1-800-877-8339 to contact the above individual during normal business hours. The FRS is available 24 hours a day, 7 days a week, to leave a message or question for the above individual. You will receive a reply during normal business hours.

SUPPLEMENTARY INFORMATION: The following described public lands in Mohave County, Arizona, are being considered for an R&PP conveyance.

Gila & Salt River Meridian, Arizona

T. 13 N., R. 19 W.

Section 20, N½SE¼, SE¼SE¼,

Section 21, S½,

Section 22, Lot 4, N½SW¼SW¼, SW¼SW¼SW¼,

Section 28, N½, N½S½,

Section 29, E½NE¼, NE¼SE¼.

The area described contains approximately 1,042.11 acres in Mohave County, Arizona. The lands are not needed for any other Federal purposes. Conveying title to the affected public land is consistent with current BLM land use planning and would be in the public interest.

The patent, when issued, would be subject to the following terms, conditions, and reservations:

1. Provision of the R&PP Act and to all applicable regulations of the Secretary of the Interior.

2. A right-of-way for ditches and canals constructed by the authority of the United States.

3. All minerals shall be reserved to the United States, together with the right to prospect for, mine, and remove such deposits from the same under applicable law and such regulation as the Secretary of the Interior may prescribe.

4. All valid exiting rights.

5. An appropriate indemnification clause protecting the United States from claims arising out of the lessee's use, occupancy, or operation of the property. It will also contain any other terms and conditions deemed necessary and appropriate by the Authorized Officer.

The land was previously segregated and continues to be segregated from all forms of mineral entry and appropriation under the public land laws except for leasing or conveyance under the R&PP Act.

Classification Comments: Interested parties may submit comments on the suitability of the lands for a developed recreation area. Comments on the classification are restricted to whether the lands are physically suited for the proposal, whether the use will maximize the future use or uses of the lands, whether the use is consistent with local planning and zoning, or if the use is consistent with Federal and State programs.

Application Comments: Interested parties may submit comments regarding the specific uses proposed in the application and plans of development, whether the BLM followed proper administrative procedures in reaching the decision, or any other factor not directly related to the suitability of the lands for recreation purposes. Any adverse comments will be reviewed by the BLM Arizona State Director.

Before including your address, phone number, email address, or other personal identifying information in your comment, you should be aware that your entire comment, including your personal identifying information, may be made available to the public at any time. While you can ask in your comment to withhold your personal identifying information from public review, we cannot guarantee that we will be able to do so.

(Authority: 43 CFR 2741.5)

William Mack,
Colorado River District Manager.

[FR Doc. 2018-17384 Filed 8-13-18; 8:45 am]

BILLING CODE 4310-32-P